DEPARTMENT OF HEALTH AND HUMAN SERVICES

National Institutes of Health

Center for Scientific Review; Amended Notice of Meeting

Notice is hereby given of a change in the meeting of the Center for Scientific Review Special Emphasis Panel, October 4, 2013, 10:00 a.m. to October 4, 2013, 01:00 p.m., Renaissance Washington DC, Dupont Circle, 1143 New Hampshire Avenue NW., Washington, DC, 20037 which was published in the Federal Register on September 10, 2013, 78 FR 175 Pgs. 55266-55267.

The meeting will be held at the Washington Plaza Hotel, 10 Thomas Circle NW., Washington, DC 20005. The meeting will start on November 22, 2013 at 10:00 a.m. and end November 22, 2013 at 1:00 p.m. The meeting is closed to the public.

Dated: October 29, 2013.
Michelle Trout,
Program Analyst, Office of Federal Advisory Committee Policy.

[FR Doc. 2013-26249 Filed 11-1-13; 8:45 am]

BILLING CODE 4140-01-P